DEPARTMENT OF ENERGY

Federal Energy Regulatory Commission

[Docket No. CP24-59-002]

WBI Energy Transmission, Inc.; Notice of Request for Extension of Time

Take notice that on November 3, 2025, WBI Energy Transmission, Inc. (WBI Energy) requested that the Commission grant an extension of time, until September 30, 2026, to complete construction and place into service the Elk Basin—Billings Replacement Project (Project) located in Yellowstone County, Montana. On February 23, 2024, the Commission issued a Notice of Request Under Blanket Authorization, which established a 60-day comment period, ending on April 23, 2024, to file protests. No protests were filed during the comment period, and accordingly the project self-implemented on April 24, 2024 and by Rule should have been completed within one year.

On April 29, 2025, the Commission granted WBI Energy an extension of time, until December 31, 2025, to complete construction of the Project and make it available for service.¹

¹ WBI Energy Transmission, Inc., Docket No. CP24-59-001 (April 29, 2025) (delegated order).

Since that time, WBI Energy has completed a considerable amount of Project work, including: (1) pipeline installation in Sections 1 through 3 including the completion of six guided bores; (2) the majority of aboveground facility work at the North Yellowstone River Valve Setting; (3) completion of the Yost Farm Tap; and (4) the start of facility work at the Monad Station and Streeter Valve Setting. WBI Energy intends to complete the following activities prior to December 31, 2025: (1) facility work at the Monad Station and Streeter Valve Setting; (2) facility work at the Conoco and T&E Valve Settings and the Laurel Town Border Station; and (3) restoration of the pipeline right-of-way including seeding with a cover crop to achieve stabilization.

However, WBI Energy states that difficult boring operations and billboard foundation pilings within the pipeline right-of-way slowed progress during favorable weather conditions. Now, due to the onset of colder weather and material procurement challenges to complete final tie-in-activities, WBI Energy requests a further extension of time to complete the remaining Project activities, including: (1) facility work at the North Yellowstone River Valve Setting; (2) tie-in of the replacement pipeline and valve settings to WBI Energy's system; (3) abandoning the existing pipeline once tie-ins are complete; and (4) final clean-up and restoration.

This notice establishes a 15-calendar day intervention and comment period deadline. Any person wishing to comment on WBI Energy's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (NGA) (18 CFR 157.10).

As a matter of practice, the Commission itself generally acts on requests for extensions of time to complete construction for NGA facilities when such requests are contested before order issuance. For those extension requests that are contested,² the Commission will aim to issue an order acting on the request within 45 days.³ The Commission will address all arguments relating to whether the applicant has demonstrated there is good cause to grant the extension.⁴ The Commission will not consider arguments that re-litigate the issuance of the certificate order, including whether the Commission properly found the project to be in the public convenience and necessity and whether the Commission's environmental analysis for the certificate complied with the National Environmental Policy Act (NEPA).⁵ At the time a pipeline requests an extension of time, orders on certificates of public convenience and necessity are final and the Commission will not re-litigate their issuance.⁶ The Director of the Office of Energy Projects, or his or her designee, will act on all of those extension requests that are uncontested.

² Contested proceedings are those where an intervenor disputes any material issue of the filing. 18 CFR 385.2201(c)(1).

³ Algonquin Gas Transmission, LLC, 170 FERC ¶ 61,144, at P 40 (2020).

⁴ Id. at P 40.

⁵ Similarly, the Commission will not re-litigate the issuance of an NGA section 3 authorization, including whether a proposed project is not inconsistent with the public interest and whether the Commission's environmental analysis for the permit order complied with NEPA.

⁶ Algonquin Gas Transmission, LLC, 170 FERC ¶ 61,144, at P 40 (2020).

In addition to publishing the full text of this document in the Federal Register, the Commission provides all interested persons an opportunity to view and/or print the contents of this document via the internet through the Commission's Home Page (http://www.ferc.gov). From the Commission's Home Page on the internet, this information is available on eLibrary. The full text of this document is available on eLibrary in PDF and Microsoft Word format for viewing, printing, and/or downloading. To access this document in eLibrary, type the docket number excluding the last three digits of this document in the docket number field.

User assistance is available for eLibrary and the Commission's website during normal business hours from FERC Online Support at (202) 502-6652 (toll free at 1-866-208-3676) or email at ferconlinesupport@ferc.gov, or the Public Reference Room at (202) 502-8371, TTY (202) 502-8659. Email the Public Reference Room at public.referenceroom@ferc.gov.

The Commission strongly encourages electronic filings of comments in lieu of paper using the “eFile” link at http://www.ferc.gov. In lieu of electronic filing, you may submit a paper copy which must reference the Project docket number.

To file via USPS: Debbie-Anne A. Reese, Secretary, Federal Energy Regulatory Commission, 888 First Street NE, Washington, DC 20426.

To file via any other courier: Debbie-Anne A. Reese, Secretary, Federal Energy Regulatory Commission, 12225 Wilkins Avenue, Rockville, Maryland 20852.

For public inquiries and assistance with making filings such as interventions, comments, or requests for rehearing, the public is encouraged to contact the Office of Public Participation at (202) 502-6595 or OPP@ferc.gov.

Comment Date: 5:00 p.m. Eastern Time on November 28, 2025.

Dated: November 12, 2025.
Carlos D. Clay,
Deputy Secretary.

[FR Doc. 2025-19970 Filed 11-14-25; 8:45 am]

BILLING CODE 6717-01-P